DEPARTMENT OF THE INTERIOR

Bureau of Land Management

[LLNV050000-L51010000.ER0000.F8740000; NVN-084626; 09-08807; TAS: 14X5017]

Proposed Wind Energy Project, Searchlight, NV

AGENCY: Bureau of Land Management, Interior.

ACTION: Notice of intent to prepare an environmental impact statement (EIS).

SUMMARY: In compliance with the National Environmental Policy Act (NEPA) of 1969, 42 U.S.C. 4321 et seq., the Bureau of Land Management (BLM), Las Vegas Field Office will prepare an EIS for a wind energy project located on public lands in Clark County, Nevada.

DATES: This notice initiates the public scoping process. Comments on issues may be submitted in writing until February 17, 2009. Any scoping meetings will be announced 15 days in advance through local news media and the BLM Web site at: http://www.nv.blm.gov/vegas/default.html.

ADDRESSES: Submit comments related to the project by any of the following methods:

• E-mail: mchandle@nv.blm.gov

• Fax: (702) 515-5064 (attention Mark Chandler)

• Mail: BLM Las Vegas Field Office, 4701 North Torrey Pines Drive, Las Vegas, NV 89130-2301

Documents pertinent to this project may be examined at the Las Vegas Field Office. Additional opportunities for public participation will be provided on publication of the draft EIS.

FOR FURTHER INFORMATION CONTACT: For further information and/or to have your name added to the mailing list, call Mark Chandler, (702) 515-5064; or e-mail mchandle@nv.blm.gov.

SUPPLEMENTARY INFORMATION: Searchlight Wind Energy, LLC, has submitted an application for the construction, operation, maintenence, and termination of a wind energy generation site. The proposed project would consist of 156 wind turbine generators and related rights-of-way appurtenances, including a substation administered by the Western Area Power Administration east of Searchlight, Nevada. The proposed wind energy project would produce approximately 359 megawatts of electricity. The proposed project site will be located on approximately 24,383 acres of public lands surrounding the town of Searchlight, Nevada.

Issues that are anticipated to be addressed in this EIS include visual impacts, avian impacts, socioeconomic impacts, electrical transmission capacity, and cumulative impacts.

Before including your address, phone number, e-mail address, or other personal identifying information in your comment, you should be aware that your entire comment—including your personal identifying information—may be made publicly available at any time. While you can ask us in your comment to withhold your personal identifying information from public review, we cannot guarantee that we will be able to do so.

Federal, State, and local agencies, as well as individuals or organizations that may be interested in or affected by the BLM's decision on this project are invited to participate in the scoping process and, if eligible, may request or be requested by the BLM to participate as a cooperating agency.

Authority: 43 CFR 2800.

Dated: December 4, 2008.
Kimber Liebhauser,
Assistant Field Manager, Lands Division, Las Vegas Field Office.

[FR Doc. E8-29686 Filed 12-15-08; 8:45 am]

BILLING CODE 4310-HC-P